NUCLEAR REGULATORY COMMISSION

[Docket No. 50-219-LR]

In the Matter of: Amergen Energy Company, LLC (License Renewal for Oyster Creek Nuclear Generating Station); Notice of Appointment of Adjudicatory Employees

Commissioners: Dale E. Klein, Chairman, Gregory B. Jaczko, Peter B. Lyons, Kristine L. Svinicki.

Pursuant to 10 CFR 2.4, notice is hereby given that Mr. Hipólito J. González, Materials Engineer, Office of Nuclear Material Safety and Safeguards, and Mr. Paul G. Oberson, Materials Engineer, Office of Nuclear Material Safety and Safeguards, have been appointed as Commission adjudicatory employees within the meaning of section 2.4, to advise the Commission regarding issues relating to review of the Licensing Board's July 24, 2008 order in this case (LBP-08-12). Neither Mr. González nor Mr. Oberson has previously performed any investigative or litigating function in connection with this or any related proceeding. Until such time as a final decision is issued in this matter, interested persons outside the agency and agency employees performing investigative or litigating functions in this proceeding are required to observe the restrictions of 10 CFR 2.347 and 2.348 in their communications with Mr. González and Mr. Oberson.

It is so ordered.

Dated at Rockville, Maryland, this 27th day of August 2008.
For the Commission.
Annette L. Vietti-Cook,
Secretary of the Commission.

[FR Doc. E8-20366 Filed 9-2-08; 8:45 am]

BILLING CODE 7590-01-P